DEPARTMENT OF THE INTERIOR

[NPS-NERO-GATE-0112-9494; 1770-OZC]

Establishment of the Gateway National Recreation Area Fort Hancock 21st Century Advisory Committee

AGENCY: National Park Service, Interior.

ACTION: Notice and Call for Nominations.

SUMMARY: The Secretary of the Interior (Secretary) is announcing the establishment of the Gateway National Recreation Area Fort Hancock 21st Century Advisory Committee (Committee). The purpose of the Committee is to advise the Secretary, through the Director of the National Park Service, on the development of a reuse plan and on matters relating to future uses of the Fort Hancock Historic Landmark District of Gateway National Recreation area.

The Department of the Interior is seeking nominations for individuals to be considered as Committee members. Nominations should describe and document the proposed member's qualifications for membership to the Committee, and include a resume listing their name, title, address, telephone, email, and fax number.

DATES: Written nominations must be received by May 3, 2012.

ADDRESSES: Send nominations to: Gateway National Recreation Area, Public Affairs Office, 210 New York Avenue, Staten Island, New York 10305.

FOR FURTHER INFORMATION CONTACT: Gateway National Recreation Area, Public Affairs Office, 210 New York Avenue, Staten Island, New York, 10305, (718) 354-4606; or via email at http://www.nps.gov/gate/contacts.htm.

SUPPLEMENTARY INFORMATION: In accordance with the provisions of the Federal Advisory Committee Act (FACA), as amended (5 U.S.C. App. 2) and with the concurrence of the General Services Administration, the Department of the Interior is announcing the establishment of an advisory committee for the Gateway National Recreation Area Fort Hancock Historic Landmark District. The Committee is a discretionary advisory committee established under the authority of the Secretary of the Interior.

The Committee will operate under the provisions of the FACA and will report to the Secretary of the Interior through the Director of the National Park Service, with the Superintendent of the Gateway National Recreation Area as the Designated Federal Officer (DFO). The Gateway National Recreation Area will provide administrative and logistical support to the Committee.

The Committee is being established to provide advice on the development of a specific reuse plan and on matters relating to the future uses of the Fort Hancock Historic Landmark District within the Sandy Hook Unit of Gateway National Recreation Area. The Committee will provide guidance to the National Park Service in developing a plan for reuse of more than 30 historic buildings that the NPS has determined are excess to its needs and eligible for lease under 16 U.S.C. 1 et seq., particularly 16 U.S.C. 1a-2(k), and 16 U.S.C. 470h-3, or under agreement through appropriate authorities.

Members of the Committee will include representatives from, but not limited to, the following interest groups: the natural resource community, the business community, the cultural resource community, the real estate community; the recreation community; the education community, the hospitality community, and the scientific community. Members of the Committee will also consist of representatives from the following municipalities: the Borough of Highlands, the Borough of Sea Bright, the Borough of Rumson, Middletown Township, and Monmouth County Freeholders.

Committee members will be selected based on the following criteria: (1) Ability to collaborate, (2) the ability to understand NPS management and policy, and (3) connection with local communities.

No individual who is currently registered as a Federal lobbyist is eligible to serve as a member of the Committee.

The Committee will meet approximately 4-6 times annually, and at such times as designated by the DFO.

Members of the Committee will serve without compensation.

Certification Statement: I hereby certify that the establishment of the Gateway National Recreation Area Fort Hancock 21st Century Advisory Committee is necessary, in the public interest, established under the authority of the Secretary of the Interior.

Dated: March 14, 2012.
Ken Salazar,
Secretary of the Interior.

[FR Doc. 2012-7845 Filed 4-2-12; 8:45 am]

BILLING CODE 4310-52-P